DEPARTMENT OF COMMERCE

International Trade Administration

[C-489-843]

Prestressed Concrete Steel Wire Strand From the Republic of Turkey: Preliminary Results of Countervailing Duty Administrative Review

AGENCY: Enforcement and Compliance, International Trade Administration, Department of Commerce.

SUMMARY: The U.S. Department of Commerce (Commerce) preliminarily determines that Celik Halat ve Tel Sanayi A.S. (Celik Halat), a producer/exporter of prestressed concrete steel wire strand (PC strand) from the Republic of Turkey (Turkey) and sole respondent for this administrative review, received countervailable subsidies during the period of review (POR), September 9, 2020, through December 31, 2021. Interested parties are invited to comment on these preliminary results.

DATES: Applicable November 4, 2022.

FOR FURTHER INFORMATION CONTACT: Jacob Garten or Amaris Wade, AD/CVD Operations, Office II, Enforcement and Compliance, International Trade Administration, U.S. Department of Commerce, 1401 Constitution Avenue NW, Washington, DC 20230; telephone: (202) 482-3342 or (202) 482-6334, respectively.

SUPPLEMENTARY INFORMATION:

Background

On February 3, 2021, Commerce published the countervailing duty order on PC strand from Turkey.¹ On April 12, 2022, Commerce published the notice of initiation of this administrative review.² For a complete description of the events that followed the initiation of this review, see the Preliminary Decision Memorandum.³ A list of topics included in the Preliminary Decision Memorandum is provided as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

¹ See Prestressed Concrete Steel Wire Strand from the Republic of Turkey: Countervailing Duty Order, 86 FR 7990 (February 3, 2021) (Order).

² See Initiation of Antidumping and Countervailing Duty Administrative Reviews, 87 FR 21619 (April 12, 2022).

³ See Memorandum, “Decision Memorandum for the Preliminary Results of the 2020-2021 Countervailing Duty Administrative Review of Prestressed Concrete Steel Wire Strand from the Republic of Turkey,” dated concurrently with, and hereby adopted by, this notice (Preliminary Decision Memorandum).

Scope of the Order

The product covered by the Order is PC strand from Turkey. For a complete description of the scope of the Order, see the Preliminary Decision Memorandum.

Methodology

Commerce is conducting this administrative review in accordance with section 751(a)(1)(A) of the Tariff Act of 1930, as amended (the Act). In reaching these preliminary results, Commerce relied on facts otherwise available, with the application of adverse inferences.⁴ For further information, see “Use of Facts Otherwise Available and Application of Adverse Inferences” in the accompanying Preliminary Decision Memorandum. For a full description of the methodology underlying our conclusions, see the Preliminary Decision Memorandum.

⁴ See section 776 of the Act.

Preliminary Results of Review

Commerce preliminarily determines the following net countervailable subsidy rates for the POR:

⁵ As discussed in the Preliminary Decision Memorandum from the Investigation, Commerce has found the following companies to be cross-owned with Celik Halat: Dogan Sirketler Grubu Holding A.S. and Adilbey Holding A.S.

Company | Subsidy rate (percent ad valorem)
Celik Halat ve Tel Sanayi A.S ⁵ | 96.33

Commerce has not calculated an estimated weighted-average subsidy rate for all other non-selected producer(s)/exporter(s) because Celik Halat was the only company subject to this administrative review.

Public Comment

Case briefs or other written comments may be submitted to the Assistant Secretary for Enforcement and Compliance no later than 30 days after the date of publication of these preliminary results of review in the Federal Register.⁶ Rebuttal briefs, limited to issues raised in case briefs, may be submitted no later than seven days after the deadline for filing case briefs.⁷ Pursuant to 19 CFR 351.309(c)(2) and (d)(2), parties who submit case briefs or rebuttal briefs in this investigation are encouraged to submit with each argument: (1) a statement of the issue; (2) a brief summary of the argument; and (3) a table of authorities. Case and rebuttal briefs must be filed using ACCESS.⁸ An electronically filed document must be received successfully in its entirety by ACCESS by 5:00 p.m. Eastern Time on the established deadline. Note that Commerce has temporarily modified certain of its requirements for serving documents containing business proprietary information, until further notice.⁹

⁶ See 19 CFR 351.309(c).

⁷ See 19 CFR 351.309(d).

⁸ See 19 CFR 351.303.

⁹ See Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce within 30 days after the date of publication of this notice. Requests should contain the party's name, address, and telephone number, the number of participants, and a list of the issues to be discussed. If a request for a hearing is made, Commerce intends to hold the hearing at a time and date to be determined.¹⁰ Parties should confirm by telephone the date, time, and location of the hearing two days before the scheduled date.

¹⁰ See 19 CFR 310(d).

Unless the deadline is extended pursuant to section 751(a)(3)(A) of the Act, we intend to issue the final results of this administrative review, including the results of our analysis of the issues raised by the parties in their case briefs, within 120 days of publication of these preliminary results in the Federal Register.

Assessment Rates

Consistent with section 751(a)(1) of the Act and 19 CFR 351.212(b)(2), upon issuance of the final results, Commerce will determine, and U.S. Customs and Border Protection (CBP) shall assess, countervailing duties on all appropriate entries covered by this review. We intend to issue instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce also intends to instruct CBP to collect cash deposits of estimated countervailing duties in the amounts shown for each of the respective companies listed above with regard to shipments of subject merchandise entered, or withdrawn from warehouse, for consumption on or after the date of publication of the final results of this review. For all non-reviewed firms, CBP will continue to collect cash deposits of estimated countervailing duties at the all-others rate or the most recent company-specific rate applicable to the company, as appropriate. These cash deposit requirements, when imposed, shall remain in effect until further notice.

Notification to Interested Parties

We are issuing and publishing these preliminary results in accordance with sections 751(a)(1) and 777(i)(1) of the Act, and 19 CFR 351.221(b)(4).

Dated: October 31, 2022.
Lisa W. Wang,
Assistant Secretary for Enforcement and Compliance.

Appendix

List of Topics Discussed in the Preliminary Decision Memorandum

I. Summary

II. Background

III. Scope of the Order

IV. Use of Facts Otherwise Available and Adverse Inferences

V. Recommendation

[FR Doc. 2022-24074 Filed 11-3-22; 8:45 am]

BILLING CODE 3510-DS-P